DEPARTMENT OF ENERGY

Federal Energy Regulatory Commission

Combined Notice of Filings #1

Take notice that the Commission received the following electric rate filings:

Docket Numbers: ER10-1437-001.

Applicants: Tampa Electric Company.

Description: Tampa Electric's Order 784 Compliance Filing to be effective 7/1/2014.

Filed Date: 6/30/14.

Accession Number: 20140630-5092.

Comments Due: 5 p.m. ET 7/21/14.

Docket Numbers: ER10-2331-025; ER14-630-002; ER10-2319-019; ER10-2317-019; ER10-2324-019; ER10-2326-024; ER10-2343-022; ER14-1468-002; ER11-4609-018; ER10-2330-024.

Applicants: J.P. Morgan Ventures Energy Corporation, AlphaGen Power LLC, BE Alabama LLC, BE CA LLC, BE KJ LLC, Cedar Brakes I, L.L.C., J.P. Morgan Commodities Canada Corporation, KMC Thermo, LLC, Triton Power Michigan LLC, Utility Contract Funding, L.L.C.

Description: Non-Material Change in Status of the J.P. Morgan Sellers.

Filed Date: 6/27/14.

Accession Number: 20140627-5224.

Comments Due: 5 p.m. ET 7/18/14.

Docket Numbers: ER10-2602-009.

Applicants: NewPage Energy Services, LLC.

Description: NewPage Energy Services, LLC Market-Based Rate Tariff to be effective 7/1/2014.

Filed Date: 6/30/14.

Accession Number: 20140630-5140.

Comments Due: 5 p.m. ET 7/21/14.

Docket Numbers: ER10-2603-006.

Applicants: Rumford Paper Company.

Description: Rumford Paper Company Market-Based Rate Tariff to be effective 7/1/2014.

Filed Date: 6/30/14.

Accession Number: 20140630-5142.

Comments Due: 5 p.m. ET 7/21/14.

Docket Numbers: ER10-2670-008; ER10-2669-008; ER14-1219-001; ER10-2253-010; ER10-3319-013; ER10-2674-008; ER10-2627-009; ER10-2629-010; ER10-1546-010; ER10-1547-008; ER14-1699-001; ER10-2636-009; ER10-1974-014; ER10-1550-009; ER10-1975-014; ER11-2424-012; ER10-2677-008; ER10-2678-007.

Applicants: ANP Blackstone Energy Company, LLC, ANP Bellingham Energy Company, LLC, Armstrong Power, LLC, Astoria Energy LLC, Astoria Energy II LLC, Calumet Energy Team, LLC, FirstLight Hydro Generating Company, FirstLight Power Resources Management, LLC, GDF SUEZ Energy Marketing NA, Inc., Hopewell Cogeneration Limited Partnership, Milford Power, LLC, Mt. Tom Generating Company, LLC, Northeast Energy Associates, A Limited Partnership, Northeastern Power Company, North Jersey Energy Associates, A Limited Partnership, Pinetree Power-Tamworth, Inc., Pleasants Energy, LLC, Troy Energy, LLC.

Description: Triennial Filing for the GDF SUEZ Northeast MBR Sellers.

Filed Date: 6/27/14.

Accession Number: 20140627-5232.

Comments Due: 5 p.m. ET 8/26/14.

Docket Numbers: ER10-2870-004; ER10-2868-003; ER10-2853-003; ER10-2856-003; ER10-2872-003; ER10-2860-004.

Applicants: TransCanada Power Marketing Ltd, TransCanada Hydro Northeast Inc., TransCanada Maine Wind Development Inc., Ocean State Power, Ocean State Power II,TC Ravenswood, LLC.

Description: Updated Market Power Analysis for the Northeast Region of TransCanada Entities.

Filed Date: 6/27/14.

Accession Number: 20140627-5231.

Comments Due: 5 p.m. ET 7/18/14.

Docket Numbers: ER10-2906-007; ER10-2908-007; ER10-2911-007; ER10-2909-007; ER10-2910-007; ER10-2899-007; ER10-2900-008; ER10-2898-012; ER11-4393-005.

Applicants: Morgan Stanley Capital Group Inc.

Description: Updated Market Power Analysis of the Morgan Stanley Utilities.

Filed Date: 6/27/14.

Accession Number: 20140627-5225.

Comments Due: 5 p.m. ET 7/18/14.

Docket Numbers: ER10-3097-003.

Applicants: Bruce Power Inc.

Description: Updated Market Power Analysis for the Northeast Region of Bruce Power Inc.

Filed Date: 6/27/14.

Accession Number: 20140627-5233.

Comments Due: 5 p.m. ET 7/18/14.

Docket Numbers: ER13-2318-002; ER10-1854-004; ER13-2317-002; ER10-2755-004; ER10-2739-007; ER11-3320-004; ER13-2319-002; ER10-2744-005; ER10-2740-005; ER13-2316-002; ER10-1631-004; ER11-3321-004; ER14-19-002.

Applicants: All Dams Generation, LLC, Doswell Limited Partnership, Lake Lynn Generation, LLC, Las Vegas Power Company, LLC, LS Power Marketing, LLC, LSP University Park, LLC, PE Hydro Generation, LLC, Riverside Generating Company, L.L.C., Rocky Road Power, LLC, Seneca Generation, LLC, University Park Energy, LLC, Wallingford Energy LLC, West Deptford Energy, LLC.

Description: Updated Market Power Analysis of the LS Northeast MBR Sellers.

Filed Date: 6/27/14.

Accession Number: 20140627-5222.

Comments Due: 5 p.m. ET 7/18/14.

Docket Numbers: ER14-1704-001.

Applicants: Trans Bay Cable LLC.

Description: Compliance Filing to Adjust TO Tariff TRBAA to be effective 4/23/2014.

Filed Date: 6/27/14.

Accession Number: 20140627-5201.

Comments Due: 5 p.m. ET 7/18/14.

Docket Numbers: ER14-1708-001.

Applicants: Commonwealth Edison Company, PJM Interconnection, L.L.C.

Description: ComEd submits compliance filing per 5/28/2014 Order to be effective 5/21/2014.

Filed Date: 6/27/14.

Accession Number: 20140627-5113.

Comments Due: 5 p.m. ET 7/18/14.

Docket Numbers: ER14-1956-001.

Applicants: Panther Creek Power Operating, LLC.

Description: Compliance Filing to be effective 6/1/2014.

Filed Date: 6/30/14.

Accession Number: 20140630-5056.

Comments Due: 5 p.m. ET 7/21/14.

Docket Numbers: ER14-1956-002.

Applicants: Panther Creek Power Operating, LLC.

Description: Amendment to Compliance Filing to be effective 6/1/2014.

Filed Date: 6/30/14.

Accession Number: 20140630-5071.

Comments Due: 5 p.m. ET 7/21/14.

Docket Numbers: ER14-2292-000.

Applicants: Tampa Electric Company.

Description: Cancellation of Market Based Sales Tariff to be effective 6/30/2014.

Filed Date: 6/27/14.

Accession Number: 20140627-5154.

Comments Due: 5 p.m. ET 7/18/14.

Docket Numbers: ER14-2293-000.

Applicants: DTE Electric Company.

Description: Revision of PLD Wholesale Distribution Agreement to be effective 5/16/2014.

Filed Date: 6/27/14.

Accession Number: 20140627-5155.

Comments Due: 5 p.m. ET 7/18/14.

Docket Numbers: ER14-2294-000.

Applicants: Indianapolis Power & Light Company.

Description: IPL Market Based Rate Tariff to be effective 6/27/2014.

Filed Date: 6/27/14.

Accession Number: 20140627-5189.

Comments Due: 5 p.m. ET 7/18/14.

Docket Numbers: ER14-2295-000.

Applicants: Waterbury Generation, LLC.

Description: Triennial Review to be effective 8/28/2014.

Filed Date: 6/27/14.

Accession Number: 20140627-5197.

Comments Due: 5 p.m. ET 8/26/14.

Docket Numbers: ER14-2296-000.

Applicants: K Road Modesto Solar LLC.

Description: RET Modesto Notice of Succession to be effective 5/14/2014.

Filed Date: 6/30/14.

Accession Number: 20140630-5000.

Comments Due: 5 p.m. ET 7/21/14.

Docket Numbers: ER14-2297-000.

Applicants: MidAmerican Energy Company.

Description: Market-Based Rate Tariff—4th Rev—MBR Triennial Filing to be effective 3/1/2014.

Filed Date: 6/30/14.

Accession Number: 20140630-5048.

Comments Due: 5 p.m. ET 7/21/14.

Docket Numbers: ER14-2298-000.

Applicants: AEP Texas Central Company.

Description: TCC-Los Vientos Windpower V Preliminary Development Agr. to be effective 6/9/2014.

Filed Date: 6/30/14.

Accession Number: 20140630-5059.

Comments Due: 5 p.m. ET 7/21/14.

Docket Numbers: ER14-2299-000.

Applicants: AEP Texas North Company.

Description: TNC-RE Roserock Preliminary Development Agr. to be effective 6/9/2014.

Filed Date: 6/30/14.

Accession Number: 20140630-5061.

Comments Due: 5 p.m. ET 7/21/14.

Docket Numbers: ER14-2300-000.

Applicants: Public Service Company of New Mexico.

Description: Modifications to Attachments L and N of PNM's Open Access Transmission Tariff to be effective 8/29/2014.

Filed Date: 6/30/14.

Accession Number: 20140630-5064.

Comments Due: 5 p.m. ET 7/21/14.

Docket Numbers: ER14-2301-000.

Applicants: PJM Interconnection, L.L.C.

Description: No Queue; Service Agreement No. 3858 to be effective 5/29/2014.

Filed Date: 6/30/14.

Accession Number: 20140630-5081.

Comments Due: 5 p.m. ET 7/21/14.

Docket Numbers: ER14-2302-000.

Applicants: Southwest Power Pool, Inc.

Description: Southwest Power Pool, Inc. submits tariff filing per 35.13(a)(2)(iii): 2568 Abengoa Bioenergy Biomass of Kansas ASFCA Cancellation to be effective 5/23/2014.

Filed Date: 6/30/14.

Accession Number: 20140630-5098.

Comments Due: 5 p.m. ET 7/21/14.

Docket Numbers: ER14-2303-000.

Applicants: The Connecticut Light and Power Company.

Description: Covanta Bristol, Inc. Interconnection Agreement Rate Schedule No. IA-NU-20 to be effective 7/1/2014.

Filed Date: 6/30/14.

Accession Number: 20140630-5099.

Comments Due: 5 p.m. ET 7/21/14.

Docket Numbers: ER14-2304-000.

Applicants: ReEnergy Black River LLC.

Description: ReEnergy Black River Order 784 Compliance Tariff Filing to be effective 7/1/2014.

Filed Date: 6/30/14.

Accession Number: 20140630-5137.

Comments Due: 5 p.m. ET 7/21/14.

Docket Numbers: ER14-2305-000.

Applicants: PJM Interconnection, L.L.C.

Description: Service Agreement No. 3318; Queue No. X3-075 to be effective 6/4/2013.

Filed Date: 6/30/14.

Accession Number: 20140630-5139.

Comments Due: 5 p.m. ET 7/21/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 30, 2014.
Nathaniel J. Davis, Sr.,
Deputy Secretary.

[FR Doc. 2014-15980 Filed 7-8-14; 8:45 am]

BILLING CODE 6717-01-P